DEPARTMENT OF AGRICULTURE

Animal and Plant Health Inspection Service

7 CFR Part 301

[Docket No. 02-114-1]

Imported Fire Ant; Additions to Quarantined Areas

AGENCY: Animal and Plant Health Inspection Service, USDA.

ACTION: Interim rule and request for comments.

SUMMARY: We are amending the imported fire ant regulations by designating as quarantined areas all or portions of six counties in South Carolina and nine counties in Tennessee. As a result of this action, the interstate movement of regulated articles from those areas will be restricted. This action is necessary to prevent the artificial spread of the imported fire ant to noninfested areas of the United States.

DATES: This interim rule was effective January 30, 2003. We will consider all comments that we receive on or before April 7, 2003.

ADDRESSES: You may submit comments by postal mail/commercial delivery or by e-mail. If you use postal mail/commercial delivery, please send four copies of your comment (an original and three copies) to: Docket No. 02-114-1, Regulatory Analysis and Development, PPD, APHIS, Station 3C71, 4700 River Road Unit 118, Riverdale, MD 20737-1238. Please state that your comment refers to Docket No. 02-114-1. If you use e-mail, address your comment to regulations@aphis.usda.gov. Your comment must be contained in the body of your message; do not send attached files. Please include your name and address in your message and “Docket No. 02-114-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Charles L. Brown, Imported Fire Ant Program Manager, PPQ, APHIS, 4700 River Road Unit 134, Riverdale, MD 20737-1236; (301) 734-8247.

SUPPLEMENTARY INFORMATION:

Background

The imported fire ant regulations (contained in 7 CFR 301.81 through 301.81-10 and referred to below as the regulations) quarantine infested States or infested areas within States and restrict the interstate movement of regulated articles to prevent the artificial spread of the imported fire ant.

The imported fire ant (Solenopsis invicta Buren and Solenopsis richteri Forel) is an aggressive, stinging insect that, in large numbers, can seriously injure and even kill livestock, pets, and humans. The imported fire ant, which is not native to the United States, feeds on crops and builds large, hard mounds that damage farm and field machinery. The regulations are intended to prevent the imported fire ant from spreading throughout its ecological range within the country.

The regulations in § 301.81-3 provide that the Administrator of the Animal and Plant Health Inspection Service (APHIS) will list as a quarantined area each State, or each portion of a State, that is infested with the imported fire ant. The Administrator will designate less than an entire State as a quarantined area only under the following conditions: (1) The State has adopted and is enforcing restrictions on the intrastate movement of the regulated articles listed in § 301.81-2 that are equivalent to the interstate movement restrictions imposed by the regulations; and (2) designating less than the entire State will prevent the spread of the imported fire ant. The Administrator may include uninfested acreage within a quarantined area due to its proximity to an infestation or its inseparability from an infested locality for quarantine purposes.

In § 301.81-3, paragraph (e) lists quarantined areas. We are amending § 301.81-3(e) by:

• Revising the boundaries of the quarantined areas in Cherokee, Greenville, and Spartanburg Counties, SC, and changing the status of Anderson, Oconee, and Pickens Counties, SC, from partially to completely infested.

• Revising the boundaries of the quarantined areas in Maury County, TN, changing the status of Decatur, Franklin, and Monroe Counties, TN, from partially to completely infested, and adding portions of Bedford, Blount, Coffee, Grundy, and Loudon Counties, TN, to the list of quarantined areas.

We are taking these actions because recent surveys conducted by APHIS and State and county agencies revealed that the imported fire ant has spread to these areas. See the rule portion of this document for specific descriptions of the new and revised quarantined areas.

Emergency Action

This rulemaking is necessary on an emergency basis to prevent the spread of imported fire ant into noninfested areas of the United States. Under these circumstances, the Administrator has determined that prior notice and opportunity for public comment are contrary to the public interest and that there is good cause under 5 U.S.C. 553 for making this rule effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

This interim rule is necessary because infestations of imported fire ant have been discovered in additional areas of South Carolina and Tennessee. This action will establish quarantined areas in 5 new counties and revise the boundaries of the quarantined areas in 10 other counties in those States. As a result of this action, the interstate movement of regulated articles from those areas is restricted. This action is necessary to prevent the artificial spread of the imported fire ant into noninfested areas of the United States.

The following analysis addresses the economic effects of this rule and the impact on small entities as required by the Regulatory Flexibility Act.

The market value of the agricultural products sold in the 15 counties affected by this rule was more than $445 million, according to the 1997 Agricultural Census. This represents 12 percent of the combined total value of agricultural sales for both States.

Potential damage by imported fire ant presents a risk to the agricultural economies in these 15 counties. During 1997, the value of sales from nursery and greenhouse crops in these 15 counties were at minimum $54 million. Those entities potentially affected by this action include nurseries, greenhouses, farm equipment dealers, construction companies, and those entities that sell, process, or move regulated articles interstate from and through quarantined areas. These economic entities are now required to treat and certify their regulated articles before moving them interstate.

According to the Small Business Administration (SBA) definition, a small agricultural producer is one having less than $750,000 in annual sales, and a small equipment dealer or a small agricultural service company is one generating less than $5 million in annual sales.

According to this definition, all of the estimated 433 potentially affected entities in the counties affected by this rule are considered small by SBA standards. However, both the number of affected entities and the scope of the economic effects resulting from this action are dependent on any given entity's proportion of sales outside the quarantined area.

The adverse economic effect on these entities can be substantially minimized by the availability of various treatment options that will allow for the movement of regulated articles from the quarantined area with only a small additional cost. The treatment cost for a standard shipment of nursery plants is estimated to be between $116 and $200, which represents, at most, 2 percent of the value of a standard tractor-trailer load of nursery plants ($10,000 to $250,000). The benefits of this action are substantial, both ensuring continued agricultural sales from the affected counties and preventing human-assisted spread of imported fire ant.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This interim rule contains no information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are amending 7 CFR part 301 as follows:

PART 301—DOMESTIC QUARANTINE NOTICES

1. The authority citation for part 301 continues to read as follows:

Authority: 7 U.S.C. 7711, 7712, 7714, 7731, 7735, 7751, 7752, 7753, 7754, and 7760; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

2. In § 301.81-3, paragraph (e) is amended as follows:

a. Under the heading South Carolina, by revising the entries for Anderson, Cherokee, Greenville, Oconee, Pickens, and Spartanburg Counties.

b. Under the heading Tennessee, by adding, in alphabetical order, new entries for Bedford, Blount, Coffee, Grundy, and Loudon Counties and by revising the entries for Decatur, Franklin, Maury, and Monroe Counties.

§ 301.81-3 Quarantined areas.

* * * * *

(e) * * *

South Carolina

* * * * *

Anderson County. The entire county.

* * * * *

Cherokee County. That portion of the county bordered by a line beginning at the intersection of the Spartanburg/Cherokee County line and State Secondary Highway 36; then northeast on State Secondary Highway 36 to the South Carolina/North Carolina State line; then east along the State line to the Cherokee/York County line; then south along the Cherokee/York County line to the Cherokee/Union County line; then northwest on the Cherokee/Union County line to the point of beginning.

* * * * *

Greenville County. That portion of the county bordered by a line beginning at the intersection of the Greenville/Spartanburg County line and State Secondary Highway 277; then northwest on State Secondary Highway 277 to State Secondary Highway 560; then east on State Highway 11 to the unpaved county road—then north on the unpaved county road to secondary system road—unpaved 118; then northeast on secondary system road-unpaved 118 to the South Carolina/North Carolina State line; then west along the South Carolina/North Carolina State line to the Greenville/Pickens County line; then south along the Greenville/Pickens County line to the Greenville/Laurens County line; then northeast along the Greenville/Laurens County line to the point of beginning.

* * * * *

Oconee County. The entire county.

* * * * *

Pickens County. The entire county.

* * * * *

Spartanburg County. That portion of the county bordered by a line beginning at the intersection of the Spartanburg/Greenville County line and State Secondary Highway 75; then northeast on State Secondary Highway 75 to State Secondary Highway 127 in the town of Gramling; then northeast on State Secondary Highway 127 to State Secondary Highway 37; then north on State Secondary Highway 37 to State Highway 11; then east on State Highway 11 to State Secondary Highway 943; then east on paved county road to State Secondary Highway 42; then southeast on State Secondary Highway 42 to State Secondary Highway 132; then northeast on State Secondary Highway 132 to State Secondary Highway 58; then south on State Secondary Highway 58 to State Secondary Highway 187; then east on State Highway 11 to the Spartanburg/Cherokee County line; then south along the Spartanburg/Cherokee County line to the Spartanburg/Laurens County line; then north along the Spartanburg/Laurens County line to the point of beginning.

* * * * *

Tennessee

Bedford County. That portion of the county lying south of a line beginning at the intersection of the Marshall/Bedford County line and Bills Road; then east on Bills Road to Falcon Road; then north on Falcon Road to Bethlehem Church Road; then east on Bethlehem Church Road to Uselton Road; then east on Uselton Road to Dixon Road; then southeast on Dixon Road to Tennessee Highway 130; then northeast on Tennessee Highway 130 to Snell Road; then southeast on Snell Road to U.S. Highway 231; then south on U.S. Highway 231 to the Lincoln/Moore/Bedford County line.

Blount County. That portion of the county lying south of a line beginning at the intersection of the Loudon/Blount County line and U.S. Highway 321; then east on U.S. Highway 321 to Marble Hill Road; then southeast on Marble Hill Road to Gulf Hollow Road; then south on Gulf Hollow Road to Kirk Road; then east on Kirk Road to Meadow Road; then northeast on Meadow Road to Lambert Road; then southeast on Lambert Road to Salem Road; then south on Salem Road to Morgantown Road; then northeast on Morgantown Road to Springview Road; then southeast on Springview Road to Old Niles Ferry Road; then southwest on Old Niles Ferry Road to Gillen Water Road; then southeast on Gillen Water Road to U.S. Highway 129; then south on U.S. Highway 129 to Baumgardner Road; then east on Baumgardner Road to Mint Road; then northeast on Mint Road to Knob Road; then southeast on Knob Road to Sixmile Road; then south along an imaginary line to U.S. Highway 129; then southeast on U.S. Highway 129 to the Tennessee/North Carolina State line.

* * * * *

Coffee County. That portion of the county lying south of a line beginning at the intersection of the Bedford/Coffee County line and the line of latitude 35° 25′ North; then east on the line of latitude 35° 25′ North to Arnold Center Road; then south on Arnold Center Road to Miller Crossroad Road; then southeast on Miller Crossroad Road to Prairie Plains Road; then north on Prairie Plains Road to Lonnie Bush Road; then northeast on Lonnie Bush Road to U.S. Highway 41; then southeast on U.S. Highway 41 to the Coffee/Grundy County line; also the entire city limits of Tullahoma, TN.

Decatur County. The entire county.

* * * * *

Franklin County. The entire county.

* * * * *

Grundy County. That portion of the county lying south of a line beginning at the intersection of the Coffee/Grundy County line and U.S. Highway 41; then southeast on U.S. Highway 41 to Tennessee Highway 50; then east on Tennessee Highway 50 to Homer White Road; then north on Homer White Road to Tennessee Highway 50; then northeast on Tennessee Highway 50 to Tennessee Highway 108; then east on Tennessee Highway 108 to Tennessee Highway 399; then northeast on Tennessee Highway 399 to Bryant Road; then southeast on Bryant Road to the Grundy/Sequatchie County line.

* * * * *

Loudon County. That portion of the county lying south of a line beginning at the intersection of the Roane/Loudon County line and the Tennessee River; then east along the Tennessee River to the Fort Loudon Dam (U.S. Highway 321); then northwest on U.S. Highway 321 to Martel Road; then northeast on Martel Road to the Loudon/Knox County line.

* * * * *

Maury County. That portion of the county lying south of a line beginning at the intersection of the Lewis/Maury County line and U.S. Highway 412; then east on U.S. Highway 412 to Cecil Farm Road; then east on Cecil Farm Road to South Cross Bridges Road; then south on South Cross Bridges Road to Mt. Pleasant Road; then south on Mt. Pleasant Road to Tennessee Highway 166; then southeast on Tennessee Highway 166 to Tennessee Highway 243; then south on Tennessee Highway 243 to Dry Creek Road; then south on Dry Creek Road to the Maury/Lawrence County Line.

* * * * *

Monroe County. The entire county.

* * * * *

Done in Washington, DC, this 30th day of January 2003.
Kevin Shea,
Acting Administrator, Animal and Plant Health Inspection Service.

[FR Doc. 03-2685 Filed 2-4-03; 8:45 am]

BILLING CODE 3410-34-P